NATIONAL SCIENCE FOUNDATION

Advisory Committee for Technology, Innovation and Partnerships; Cancellation of Meeting

AGENCY: National Science Foundation.

ACTION: Notice; cancellation of meeting date.

The National Science Foundation published a notice in the Federal Register October 21, 2024, in FR Doc. 2024-24376 at 89 FR 84205-84206, concerning a meeting of the Advisory Committee for Technology, Innovation and Partnerships. The meeting scheduled for Friday, November 15, 2024, at 12 p.m. (ET) is cancelled.

FOR FURTHER INFORMATION CONTACT: Please contact Crystal Robinson, crrobins@nsf.gov or 703-292-8687.

Dated: October 31, 2024.
Crystal Robinson,
Committee Management Officer, National Science Foundation.

[FR Doc. 2024-25735 Filed 11-5-24; 8:45 am]

BILLING CODE 7555-01-P